DEPARTMENT OF COMMERCE

International Trade Administration

[A-570-890]

Wooden Bedroom Furniture From the People's Republic of China: Preliminary Results and Rescission, in Part, of Antidumping Duty Administrative Review; 2023

AGENCY: Enforcement and Compliance, International Trade Administration, Department of Commerce.

SUMMARY: The U.S. Department of Commerce (Commerce) preliminarily determines that one company under review did not establish its entitlement to a separate rate and is part of the People's Republic of China (China)-wide entity, and found that seven companies under review with no entries of subject merchandise during the period of review (POR) remain in the China-wide entity. Further, Commerce is rescinding this review with respect to 34 of the 42 companies/company groupings under review. The POR is January 1, 2023, through December 31, 2023. Interested parties are invited to comment on these preliminary results of review.

DATES: Applicable May 14, 2025.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On January 2, 2024, Commerce published in the Federal Register a notice of opportunity to request an administrative review of the antidumping duty order on wooden bedroom furniture (WBF) from China.¹ After receiving multiple review requests,² Commerce initiated this review.³ In March and April 2024, various companies/company groupings submitted no shipment certifications.⁴ Also in March and April 2024, various companies filed separate rate applications or certifications, along with responses to Commerce's quantity and value questionnaire and certain additional information requested in a document package on Commerce's website. In May and June 2024, interested parties timely withdrew all review requests for 23 companies/company groupings under review.⁵

¹ See Antidumping or Countervailing Duty Order, Finding, or Suspended Investigation; Opportunity To Request Administrative Review and Join Annual Inquiry Service List, 89 FR 63 (January 2, 2024).

² See American Furniture Manufacturers Committee for Legal Trade and Vaughan-Bassett Furniture Company, Inc.'s (the petitioners) Letter, “Request For Initiation Of Administrative Review,” dated January 31, 2024; see also Guangzhou Maria Yee Furnishings Ltd., Pyla HK Limited, and Maria Yee, Inc's (collectively, Maria Yee) Letter, “Maria Yee's Request for Administrative Review and Request for Voluntary Respondent Treatment,” dated January 25, 2024.

³ See Initiation of Antidumping and Countervailing Duty Administrative Reviews, 89 FR 15827 (March 5, 2024) (Initiation Notice).

⁴ See Eurosa (Kunshan) Co., Ltd. and Eurosa Furniture Co., (PTE) Ltd.'s Letter, “Eurosa (Kunshan) Co., Ltd. and Eurosa Furniture Co., (PTE) Ltd.'s Statement of No Shipments during the POR 2023, Wooden Bedroom Furniture from the People's Republic of China,” dated March 19, 2024; see also Shenzhen New Fudu Furniture Co. Ltd.'s Letter, “Shenzhen New Fudu Furniture Co., Ltd.'s Statement of No Shipments during the POR 2023, Wooden Bedroom Furniture from the People's Republic of China,” dated March 19, 2024 (Shenzhen New Fudu Furniture Co. Ltd.'s No Shipments Letter); Jiangsu Yuexing Furniture Group Co. Ltd.'s Letter, “Jiangsu Yuexing Furniture Group Co., Ltd.'s Statement of No Shipments during the POR 2023, Wooden Bedroom Furniture from the People's Republic of China,” dated March 19, 2024; Nanhai Jiantai Woodwork Co., Ltd. and Fortune Glory Industrial Ltd.'s Letter, “No Shipment Certification of Nanhai Jiantai Woodwork Co., Ltd. and Fortune Glory Industrial Ltd. (H.K. Ltd.),” dated April 3, 2024; Zhangzhou Guohui Industrial & Trade Co., Ltd.'s Letter, “No Shipment Certification and Quantity and Value Questionnaire,” dated April 2, 2024; Shenyang Shining Dongxing Furniture Co., Ltd.'s Letter, “No Shipment Letter and Response to Quantity and Value Questionnaire,” dated April 2, 2024; Jiangmen Kinwai Furniture Decoration Co., Ltd.'s Letter, “No Shipment Letter for Jiangmen Kinwai Furniture Decoration Co., Ltd.,” dated April 2, 2024; Jiangmen Kinwai International Furniture Co., Ltd.'s Letter, “No Shipment Letter for Jiangmen Kinwai International Furniture Co., Ltd.,” dated April 2, 2024; and Nathan International Ltd. and Nathan Rattan Factory's Letter, “No Shipment Certification,” dated April 4, 2024. We note that Shenzhen Jiafa High Grade Furniture Co., Ltd. (Shenzhen Jiafa) and Zhangzhou XMB Furniture Product Co., Ltd. (Zhangzhou XMB) submitted no shipment letters. However, the petitioners withdrew their review requests for these two companies. See Shenzhen Jiafa's Letter, “Certification of No Sales, Shipments, or Entries,” April 4, 2024; see also Zhangzhou XMB's Letter, “No Shipment Certification and Response to Quantity and Value Questionnaire,” dated April 4, 2024.

⁵ See Petitioners' Letter, “Partial Withdrawal Of Request For Administrative Review,” dated June 3, 2024, “Partial Withdrawal Of Request For Administrative Review,” dated May 29, 2024; and “Partial Withdrawal Of Request For Administrative Review,” dated May 24, 2024; see also Maria Yee's Letter, “Maria Yee's Withdrawal of Request for Review,” dated May 28, 2024.

On July 22, 2024, Commerce tolled certain deadlines in this administrative proceeding by seven days.⁶ On October 8, 2024, Commerce extended the deadline for issuing the preliminary results of this review until February 6, 2025.⁷ On December 9, 2024, Commerce tolled certain deadlines in this administrative proceeding by an additional 90 days.⁸ The deadline for the preliminary results of this review is now May 7, 2025.

⁶ See Memorandum, “Tolling of Deadlines for Antidumping and Countervailing Duty Proceedings,” dated July 22, 2024.

⁷ See Memorandum, “Extension of Deadline for Preliminary Results of Antidumping Duty Administrative Review,” dated October 8, 2024.

⁸ See Memorandum, “Tolling of Deadlines for Antidumping and Countervailing Duty Proceedings,” dated December 9, 2024.

Scope of the Order

The product covered by the Order is WBF, subject to certain exceptions. For a complete description of the scope of the Order, see Appendix I.

Methodology

Commerce is conducting this review in accordance with section 751(a)(1)(B) of the Tariff Act of 1930, as amended (the Act), and 19 CFR 351.213. Additionally, given that the analysis underlying these preliminary results of review are contained herein, no decision memoranda accompany this Federal Register notice.

Partial Rescission of Administrative Review

Pursuant to 19 CFR 351.213(d)(1), Commerce will rescind an administrative review, in whole or in part, if a party that requested a review, withdraws its request within 90 days of the date of publication of the notice of initiation of the requested review in the Federal Register. Interested parties timely withdrew all review requests for 25 companies/company groupings for which Commerce initiated this review. Therefore, in accordance with 19 CFR 351.213(d)(1), Commerce is rescinding this review of the Order with respect to all the companies/company groupings listed in appendix II.

Pursuant to 19 CFR 351.212(a), “{g}enerally, the amount of duties to be assessed is determined in a review of the order covering a discrete period of time.” Thus, normally, upon completion of an administrative review, suspended entries of subject merchandise are liquidated at the antidumping duty assessment rate calculated for the review period.⁹ Therefore, in order to apply the final antidumping duty liability that was determined in an administrative review for a particular company, there must be at least one suspended entry of that company's subject merchandise that Commerce can instruct U.S. Customs and Border Protection (CBP) to liquidate at the antidumping duty assessment rate calculated for the review period. Pursuant to 19 CFR 351.213(d)(3), Commerce may rescind an administrative review if it concludes that, during the period covered by the review, there were no entries, exports, or sales of the subject merchandise, as the case may be.¹⁰

⁹ See 19 CFR 351.212(b)(1).

¹⁰ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

Because the entry data that we obtained from U.S. Customs and Border Protection (CBP) showed no suspended entries of subject merchandise from the nine companies identified in Appendix III, on January 6, 2025, we notified parties of our intent to rescind this administrative review with respect to those companies.¹¹ No one commented on our intent to rescind this review with respect to these companies. Therefore, in the absence of any suspended entries of subject merchandise during the POR from the companies listed in Appendix III, we are rescinding this administrative review with respect to these companies, in accordance with 19 CFR 351.213(d)(3).

¹¹ See Memorandum, “Notice of Intent to Rescind Review, In Part,” dated January 6, 2025.

Separate Rates

In the Initiation Notice, we informed parties that all firms for which a non-market economy (NME) review was initiated that wished to qualify for separate rate status must complete, as appropriate, either a separate rate application or a separate rate certification.¹² While Shenzhen New Fudu Furniture Co., Ltd. claimed that it “made no exports, sales, shipments, or entries of any subject merchandise . . . during the . . . period of review,” ¹³ record evidence contradicts this claim, namely CBP entry data.¹⁴ Shenzhen New Fudu Furniture Co., Ltd. failed to comment on this evidence or provide a separate rate application or certification. Therefore, Commerce preliminarily determines that New Fudu Furniture Co., Ltd. failed to demonstrate that it qualifies for separate rate status, and thus is part of the China-wide entity.

¹² See Initiation Notice, 89 FR at 15827.

¹³ See Shenzhen New Fudu Furniture Co. Ltd.'s No Shipments Letter.

¹⁴ See Memorandum, “No Shipment Inquiry” dated September 19, 2024; see also Memorandum, “Release of U.S. Customs and Border Patrol Entry Summary Documentation,” dated November 27, 2024.

Additionally, CBP entry data for the POR show no entries of subject merchandise from the following seven companies for which Commerce initiated this review and which do not have a separate rate: (1) Dorbest Ltd.; (2) Fine Furniture (Shanghai) Ltd.; (3) Rui Feng Lumber Development Co., Ltd.; (4) Rui Feng Woodwork Co., Ltd.; (5) Wanvog Furniture (Kunshan) Co., Ltd.; (6) Yeh Brothers World Trade Inc.; and (7) Zhongshan Fookyik Furniture Co., Ltd.

Because there were no entries of subject merchandise from these companies during the POR for Commerce to examine in this administrative review, and these companies did not have a separate rate, these companies remain in the China-wide entity.

Commerce's policy regarding conditional review of the China-wide entity applies to this administrative review.¹⁵ Under this policy, the China-wide entity will not be under review unless a party specifically requests, or Commerce self-initiates, a review of the entity. Because no party requested a review of the China-wide entity, the entity is not under review and the weighted-average dumping margin assigned to the China-wide entity is not subject to change as a result of this administrative review.

¹⁵ See Antidumping Proceedings: Announcement of Change in Department Practice for Respondent Selection in Antidumping Duty Proceedings and Conditional Review of the Nonmarket Economy Entity in NME Antidumping Duty Proceedings, 78 FR 65963 (November 4, 2013).

Disclosure

Normally, Commerce discloses to parties to the proceeding the calculations that it performed in connection with a preliminary results of review within five days of any public announcement or, if there is no public announcement, within five days of the date of publication of the notice of preliminary results of review in the Federal Register, in accordance with 19 CFR 351.224(b). However, because Commerce did not calculate any dumping margins in this review, there are no calculations to disclose.

Public Comment

Case briefs or other written comments may be submitted to the Assistant Secretary for Enforcement and Compliance. Pursuant to 19 CFR 351.309(c)(1)(ii), we have modified the deadline for interested parties to submit case briefs to Commerce to no later than 21 days after the date of the publication of this notice.¹⁶ Rebuttal briefs, limited to issues raised in the case briefs, may be filed not later than five days after the date for filing case briefs.¹⁷ Interested parties who submit case briefs or rebuttal briefs in this review must submit: (1) a table of contents listing each issue; and (2) a table of authorities.¹⁸

¹⁶ See 19 CFR 351.309(c)(1)(ii).

¹⁷ See 19 CFR 351.309(d); see also Administrative Protective Order, Service, and Other Procedures in Antidumping and Countervailing Duty Proceedings, 88 FR 67069, 67077 (September 29, 2023) (APO and Service Final Rule).

¹⁸ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁹ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).²⁰

¹⁹ We use the term “issue” here to describe an argument that Commerce would normally address in a comment of the Issues and Decision Memorandum.

²⁰ See APO and Service Final Rule.

Pursuant to 19 CFR 351.310(c), interested parties who wish to request a hearing must submit a written request to the Assistant Secretary for Enforcement and Compliance, filed electronically via ACCESS. Requests should contain: (1) the requesting party's name, address, and telephone number; (2) the number of individuals associated with the requesting party that will attend the hearing and whether any of those individuals is a foreign national; and (3) a list of the issues the party intends to discuss at the hearing. Issues raised in the hearing will be limited to those raised in the respective case briefs. If a request for a hearing is made, Commerce intends to hold the hearing at a date and time to be determined. An electronically filed hearing request must be received successfully in its entirety by Commerce's electronic records system, ACCESS, by 5 p.m. Eastern Time within 30 days after the date of publication of this notice in the Federal Register.

Assessment Rate

Commerce will determine, and CBP shall assess, antidumping duties on all appropriate entries of subject merchandise covered by this review.²¹ We will instruct CBP to liquidate POR entries of subject merchandise exported by the companies/company groupings for which we rescinded the review at the cash deposit rate required at the time of entry or withdrawal from warehouse, for consumption, in accordance with 19 CFR 351.212(c)(l)(i). We will issue this instruction to CBP no earlier than 35 days after the date of publication of this notice in the Federal Register.

²¹ See 19 CFR 351.212(b)(1).

If we do not alter these preliminary results of review, we intend to instruct CBP to liquidate entries of subject merchandise exported by the companies that failed to qualify for a separate rate at the China-wide entity rate. We will issue this instruction to CBP no earlier than 35 days after the date of publication of the final results of this review in the Federal Register.

If a timely summons is filed at the U.S. Court of International Trade, the assessment instructions will direct CBP not to liquidate relevant entries until the time for parties to file a request for statutory injunction has expired (i.e., within 90 days of publication).

Cash Deposit Requirements

The following cash deposit requirements for estimated antidumping duties will be effective for all shipments of subject merchandise entered, or withdrawn from warehouse, for consumption on or after the date of publication of the notice of the final results of this administrative review in the Federal Register as provided by section 751(a)(2)(C) of the Act: (1) for any previously investigated or reviewed China or non-China exporter that has a separate rate, the cash deposit rate will continue to be the exporter's existing cash deposit rate; (2) for all China exporters of subject merchandise that do not have a separate rate, including those exporters that failed to establish their separate rate eligibility in this review, the cash deposit rate will be equal to the dumping margin assigned to the China-wide entity, which is 216.01 percent; and (3) for all non-China exporters of subject merchandise that do not have a separate rate, the cash deposit rate will be equal to the dumping margin applicable to the China exporter(s) that supplied that non-China exporter. These cash deposit requirements, when imposed, shall remain in effect until further notice.

Final Results of Review

Unless otherwise extended, Commerce intends to issue the final results of this administrative review, which will include the results of its analysis of issues raised in case and rebuttal briefs, within 120 days of publication of these preliminary results of review in the Federal Register, pursuant to section 751(a)(3)(A) of the Act.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

We are issuing and publishing these preliminary results of review in accordance with sections 751(a)(1) and 777(i)(1) of the Act, and 19 CFR 351.213(h)(2) and 351.221(b)(4).

Dated: May 7, 2025.
Christopher Abbott,
Deputy Assistant Secretary for Policy and Negotiations, performing the non-exclusive functions and duties of the Assistant Secretary for Enforcement and Compliance.

Appendix I

Scope of the Order

The product covered by the Order is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,²² highboys,²³ lowboys,²⁴ chests of drawers,²⁵ chests,²⁶ door chests,²⁷ chiffoniers,²⁸ hutches,²⁹ and armoires; ³⁰ (6) desks, computer stands, filing cabinets, book cases, or writing tables that are attached to or incorporated in the subject merchandise; and (7) other bedroom furniture consistent with the above list.

²² A chest-on-chest is typically a tall chest-of-drawers in two or more sections (or appearing to be in two or more sections), with one or two sections mounted (or appearing to be mounted) on a slightly larger chest; also known as a tallboy.

²³ A highboy is typically a tall chest of drawers usually composed of a base and a top section with drawers, and supported on four legs or a small chest (often 15 inches or more in height).

²⁴ A lowboy is typically a short chest of drawers, not more than four feet high, normally set on short legs.

²⁵ A chest of drawers is typically a case containing drawers for storing clothing.

²⁶ A chest is typically a case piece taller than it is wide featuring a series of drawers and with or without one or more doors for storing clothing. The piece can either include drawers or be designed as a large box incorporating a lid.

²⁷ A door chest is typically a chest with hinged doors to store clothing, whether or not containing drawers. The piece may also include shelves for televisions and other entertainment electronics.

²⁸ A chiffonier is typically a tall and narrow chest of drawers normally used for storing undergarments and lingerie, often with mirror(s) attached.

²⁹ A hutch is typically an open case of furniture with shelves that typically sits on another piece of furniture and provides storage for clothes.

³⁰ An armoire is typically a tall cabinet or wardrobe (typically 50 inches or taller), with doors, and with one or more drawers (either exterior below or above the doors or interior behind the doors), shelves, and/or garment rods or other apparatus for storing clothes. Bedroom armoires may also be used to hold television receivers and/or other audiovisual entertainment systems.

The scope of the Order excludes the following items: (1) seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ³¹ (9) jewelry armories; ³² (10) cheval mirrors; ³³ (11) certain metal parts; ³⁴ (12) mirrors that do not attach to, incorporate in, sit on, or hang over a dresser if they are not designed and marketed to be sold in conjunction with a dresser as part of a dresser-mirror set; (13) upholstered beds; ³⁵ (14) toyboxes; ³⁶ (15) certain enclosable wall bed units; ³⁷ (16) certain shoe cabinets; ³⁸ and (17) certain bed bases.³⁹

³¹ As used herein, bentwood means solid wood made pliable. Bentwood is wood that is brought to a curved shape by bending it while made pliable with moist heat or other agency and then set by cooling or drying. See CBP's Headquarters Ruling Letter 043859, dated May 17, 1976.

³² Any armoire, cabinet, or other accent item for the purpose of storing jewelry, not to exceed 24 inches in width, 18 inches in depth, and 49 inches in height, including a minimum of 5 lined drawers lined with felt or felt-like material, at least one side door or one front door (whether or not the door is lined with felt or felt-like material), with necklace hangers, and a flip-top lid with inset mirror. See Memorandum, “Jewelry Armoires and Cheval Mirrors in the Antidumping Duty Investigation of Wooden Bedroom Furniture from the People's Republic of China,” dated August 31, 2004; see also Wooden Bedroom Furniture from the People's Republic of China: Final Changed Circumstances Review, and Determination to Revoke Order in Part, 71 FR 38621 (July 7, 2006).

³³ Cheval mirrors are any framed, tiltable mirror with a height in excess of 50 inches that is mounted on a floorstanding, hinged base. Additionally, the scope of the Order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet line with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture from the People's Republic of China: Final Changed Circumstances Review and Determination To Revoke Order in Part, 72 FR 948 (January 9, 2007).

³⁴ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form.

³⁵ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

³⁶ To be excluded the toy box must: (1) be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (“ASTM”) standard F963-03. Toy boxes are boxes generally designed for the purpose of storing children's items such as toys, books, and playthings. See Wooden Bedroom Furniture from the People's Republic of China: Final Results of Changed Circumstances Review and Determination to Revoke Order in Part, 74 FR 8506 (February 25, 2009).

Further, as determined in the scope ruling memorandum, “Wooden Bedroom Furniture from the People's Republic of China: Scope Ruling on a White Toy Box,” dated July 6, 2009, the dimensional ranges used to identify the toy boxes that are excluded from the Order apply to the box itself rather than the lid.

³⁷ Excluded from the scope are certain enclosable wall bed units, also referred to as murphy beds, which are composed of the following three major sections: (1) a metal wall frame, which attaches to the wall and uses coils or pistons to support the metal mattress frame; (2) a metal frame, which has euro slats for supporting a mattress and two legs that pivot; and (3) wood panels, which attach to the metal wall frame and/or the metal mattress frame to form a cabinet to enclose the wall bed when not in use. Excluded enclosable wall bed units are imported in ready to assemble format with all parts necessary for assembly. Enclosable wall bed units do not include a mattress. Wood panels of enclosable wall bed units, when imported separately, remain subject to the Order.

³⁸ Excluded from the scope are certain shoe cabinets 31.5-33.5 inches wide by 15.5-17.5 inches deep by 34.5-36.5 inches high. They are designed strictly to store shoes, which are intended to be aligned in rows perpendicular to the wall along which the cabinet is positioned. Shoe cabinets do not have drawers, rods, or other indicia for the storage of clothing other than shoes. The cabinets are not designed, manufactured, or offered for sale in coordinated groups or sets and are made substantially of wood, have two to four shelves inside them, and are covered by doors. The doors often have blinds that are designed to allow air circulation and release of bad odors. The doors themselves may be made of wood or glass. The depth of the shelves does not exceed 14 inches. Each shoe cabinet has doors, adjustable shelving, and ventilation holes.

³⁹ Excluded from the scope are certain bed bases consisting of: (1) a wooden box frame; (2) three wooden cross beams and one perpendicular center wooden support beam; and (3) wooden slats over the beams. These bed bases are constructed without inner springs and/or coils and do not include a headboard, footboard, side rails, or mattress. The bed bases are imported unassembled.

Imports of subject merchandise are classified under subheadings 9403.50.9041, 9403.50.9042 and 9403.50.9045 of the Harmonized Tariff Schedule of the United States (HTSUS) as “wooden . . . beds” and under subheading 9403.50.9080 of the HTSUS as “other . . . wooden furniture of a kind used in the bedroom.” In addition, wooden headboards for beds, wooden footboards for beds, wooden side rails for beds, and wooden canopies for beds may be entered under subheadings 9403.91.0005 or 9403.91.0080 of the HTSUS. Subject merchandise may also be entered under subheading 9403.91.0010. Further, framed glass mirrors may be entered under subheading 7009.92.1090 or 7009.92.5095 of the HTSUS as “glass mirrors . . . framed.” The Order covers all wooden bedroom furniture meeting the above description, regardless of tariff classification. Although the HTSUS subheadings are provided for convenience and customs purposes, our written description of the scope of this Order is dispositive.

Appendix II

Companies/Company Groupings for Which All Review Requests Were Withdrawn

1. Carven Industries Ltd. (BVI)

2. Carven Industries Ltd. (HK)

3. Dongguan Chengcheng Furniture Co., Ltd.

4. Dongguan Yongpeng Furniture Co., Ltd.

5. Dongguan Zhenxin Furniture Co., Ltd.

6. Fortune Glory Industrial, Ltd. (HK Ltd.)

7. Golden Lion International Trading Ltd.

8. Golden Well International (HK), Ltd.

9. Guangzhou Maria Yee Furnishings Ltd.

10. Jiangsu Xiangsheng Bedtime Furniture Co., Ltd.

11. Maria Yee, Inc.

12. Nanhai Jiantai Woodwork Co. Ltd.

13. Perfect Line Furniture Co., Ltd.

14. PuTian JingGong Furniture Co., Ltd.

15. Pyla HK Ltd.

16. Shenzhen Jiafa High Grade Furniture Co., Ltd.

17. Shenzhen Wonderful Furniture Co., Ltd.

18. Shing Mark Enterprise Co., Ltd.

19. Tradewinds Furniture Ltd. (successor-in-interest to Nanhai Jiantai Woodwork Co.), Fortune Glory Industrial Ltd. (H.K. Ltd.)

20. Wuxi Yushea Furniture Co., Ltd.

21. Zhangjiagang Daye Hotel Furniture Co., Ltd.

22. Zhangzhou XMB Furniture Product Co., Ltd.

23. Zhejiang Tianyi Scientific & Educational Equipment Co., Ltd.

24. Zhongshan Golden King Furniture Industrial Co., Ltd.

25. Zhoushan For-Strong Wood Co., Ltd.

Appendix III

Companies With No Shipments/Suspended Entries

1. Eurosa Furniture Co., (PTE) Ltd.

2. Eurosa (Kunshan) Co., Ltd.

3. Jiangsu Yuexing Furniture Group Co., Ltd.

4. Nathan International Ltd.

5. Nathan Rattan Factory

6. Shenyang Shining Dongxing Furniture Co., Ltd.

7. Jiangmen Kinwai Furniture Decoration Co., Ltd.

8. Jiangmen Kinwai International Furniture Co., Ltd.

9. Zhangzhou Guohui Industrial & Trade Co., Ltd.

[FR Doc. 2025-08505 Filed 5-13-25; 8:45 am]

BILLING CODE 3510-DS-P